DEPARTMENT OF COMMERCE

International Trade Administration

[C-122-815]

Pure Magnesium and Alloy Magnesium From Canada: Final Results of Countervailing Duty Administrative Reviews

AGENCY: Import Administration, International Trade Administration, Department of Commerce.

ACTION: Notice of final results of countervailing duty administrative reviews.

SUMMARY: On May 4, 2000, the Department of Commerce (“the Department”) published in the Federal Register the preliminary results of the administrative reviews of the countervailing duty orders on pure magnesium and alloy magnesium from Canada for the period January 1, 1998 through December 31, 1998.

Our analysis of the comments received on the preliminary results did not lead to any changes of the net subsidy rate. Therefore, these final results are identical to the preliminary results. The final net subsidy rate for the reviewed company is listed below in the section entitled “Final Results of Reviews.”

EFFECTIVE DATE: September 8, 2000.

FOR FURTHER INFORMATION CONTACT: Annika O'Hara or Craig Matney, AD/CVD Enforcement, Office 1, Group I, Import Administration, U.S. Department of Commerce, 14th Street and Constitution Avenue, N.W., Washington, D.C. 20230; telephone (202) 482-3798 or (202) 482-1778, respectively.

SUPPLEMENTARY INFORMATION:

Applicable Statute and Regulations

Unless otherwise indicated, all citations to the statute are references to the provisions of section 751(a) of the Tariff Act of 1930, as amended by the Uruguay Round Agreements Act (“URAA”), effective January 1, 1995 (“the Act”). In addition, unless otherwise indicated, all citations to the Department's regulations are to 19 CFR part 351 (1999).

Background

On May 4, 2000, the Department published the preliminary results of these administrative reviews (see Pure Magnesium and Alloy Magnesium From Canada: Preliminary Results of Countervailing Duty Administrative Reviews, 65 FR 25910 (May 4, 2000)) (“Preliminary Results”). We received a case brief from the petitioner, the Magnesium Corporation of America, on June 5, 2000. Norsk Hydro Canada, Inc. (“NHCI”), the sole producer or exporter of the subject merchandise for which a review was requested, and the Government of Québec filed rebuttal briefs on June 12, 2000. The Department did not conduct a hearing for these reviews because none was requested.

Scope of the Reviews

The products covered by these reviews are shipments of pure and alloy magnesium from Canada. Pure magnesium contains at least 99.8 percent magnesium by weight and is sold in various slab and ingot forms and sizes. Magnesium alloys contain less than 99.8 percent magnesium by weight with magnesium being the largest metallic element in the alloy by weight, and are sold in various ingot and billet forms and sizes.

The pure and alloy magnesium subject to review is currently classifiable under items 8104.11.0000 and 8104.19.0000, respectively, of the Harmonized Tariff Schedule of the United States (“HTSUS”). Although the HTSUS subheadings are provided for convenience and customs purposes, the written descriptions of the merchandise subject to the orders are dispositive.

Secondary and granular magnesium are not included in the scope of these orders. Our reasons for excluding granular magnesium are summarized in Preliminary Determination of Sales at Less Than Fair Value: Pure and Alloy Magnesium From Canada, 57 FR 6094 (February 20, 1992).

Period of Review

The period of review for which we are measuring subsidies is from January 1, 1998 through December 31, 1998.

Analysis of Comments Received

All issues raised in the case and rebuttal briefs by parties to these administrative reviews are addressed in the September 1, 2000, Issues and Decision Memorandum (“Decision Memorandum”) from Richard W. Moreland, Deputy Assistant Secretary, Import Administration, to Troy H. Cribb, Acting Assistant Secretary for Import Administration, which is hereby adopted by this notice. Attached to this notice as Appendix I is a list of the issues which parties have raised and to which we have responded in the Decision Memorandum. Parties can find a complete discussion of all issues raised in these reviews and the corresponding recommendations in this public memorandum which is on file in the Central Records Unit, Room B-099 of the Department. In addition, a complete version of the Decision Memorandum can be accessed directly on the Internet at http://www.ia.ita.doc.gov/frn/ under the heading “Canada.” The paper copy and electronic version of the Decision Memorandum are identical in content.

Changes Since the Preliminary Results

Based on our analysis of the record and comments received, we have made no changes to the preliminary net subsidy rate.

Final Results of Reviews

In accordance with 19 CFR 351.221(b)(4)(i), we calculated an individual subsidy rate for each producer/exporter subject to these reviews. We will instruct the U.S. Customs Service (”Customs”) to assess countervailing duties as indicated below on all appropriate entries. For the period January 1, 1998 through December 31, 1998, we determine the net subsidy rate for the reviewed company to be as follows:

Net Subsidy Rate
Manufacturer/exporter | Percent
Norsk Hydro Canada, Inc | 1.38

The Department will also instruct Customs to collect cash deposits of estimated countervailing duties in the percentage detailed above on the f.o.b. invoice price on all shipments of the subject merchandise from NHCI entered, or withdrawn from warehouse, for consumption on or after the date of publication of the final results of these reviews.

Because the URAA replaced the general rule in favor of a country-wide rate with a general rule in favor of individual rates for investigated and reviewed companies, the procedures for establishing countervailing duty rates, including those for non-reviewed companies, are now essentially the same as those in antidumping cases, except as provided for in section 777A(e)(2)(B) of the Act. The requested review will normally cover only those companies specifically named (see 19 CFR 351.213(b)). Pursuant to 19 CFR 351.212(c), for all companies for which a review was not requested, duties must be assessed at the cash deposit rate, and cash deposits must continue to be collected at the rate previously ordered. As such, the countervailing duty cash deposit rate applicable to a company can no longer change, except pursuant to a request for a review of that company. See Federal-Mogul Corporation and The Torrington Company v. United States, 822 F. Supp. 782 (CIT 1993) and Floral Trade Council v. United States, 822 F. Supp. 766 (CIT 1993). Therefore, the cash deposit rates for all companies except NHCI will be unchanged by the results of these reviews.

Accordingly, we will instruct Customs to continue to collect cash deposits for non-reviewed companies at the most recent company-specific or country-wide rate applicable to the company. Except for Timminco Limited, which was excluded from the orders in the original investigations, these rates were established in the first administrative proceeding conducted under the URAA. See Final Results of the Second Countervailing Duty Administrative Reviews: Pure Magnesium and Alloy Magnesium from Canada, 62 FR 48607 (September 16, 1997).

In addition, for the period January 1, 1998 through December 31, 1998, the assessment rates applicable to all non-reviewed companies covered by these orders are the cash deposit rates in effect at the time of entry, except for Timminco Limited (which was excluded from the order in the original investigations).

This notice serves as a reminder to parties subject to administrative protective order (“APO”) of their responsibility concerning the disposition of proprietary information disclosed under APO in accordance with 19 CFR 351.305(a)(3). Timely written notification of return/destruction of APO materials or conversion to judicial protective order is hereby requested.

Failure to comply with the regulations and the terms of an APO is a sanctionable violation.

These administrative reviews and notice are in accordance with section 751(a)(1) of the Act.

Dated: September 1, 2000.
Joseph A. Spetrini,
Acting Assistant Secretary for Import Administration.

Appendix I—Issues Discussed in the Decision Memorandum

I. Methodology and background information

1. Subsidies valuation information

A. Allocation period

A. Discount rates

II. Analysis of programs

1. Program conferring subsidies

A. Article 7 grant from the Québec Industrial Development Corporation (“SDI”)

2. Programs determined to be not used

A. St. Lawrence River Environment Technology Development Program

B. Program for Export Market Development

C. The Export Development Corporation

D. Canada-Québec Subsidiary Agreement on the Economic Development of the Regions of Québec

E. Opportunities to Stimulate Technology Programs

F. Development Assistance Program

G. Industrial Feasibility Study Assistance Program

H. Export Promotion Assistance Program

I. Creation of Scientific Jobs in Industries

J. Business Investment Assistance Program

K. Business Financing Program

L. Research and Innovation Activities Program

M. Export Assistance Program

N. Energy Technologies Development Program

O. Transportation Research and Development Assistance Program

3. Program from which NHCI no longer derives a countervailable benefit

A. Exemption from payment of water bills

III. Analysis of comments

Comment 1: Description of a program as “terminated”

[FR Doc. 00-23128 Filed 9-7-00; 8:45 am]

BILLING CODE 3510-DS-P